ENVIRONMENTAL PROTECTION AGENCY

40 CFR Parts 52 and 81

[AZ 114-CORR; FRL-7632-1]

Approval and Promulgation of State Implementation Plans; Designation of Areas for Air Quality Planning Purposes; State of Arizona; Tucson Area; Technical Correction

AGENCY: Environmental Protection Agency (EPA).

ACTION: Final rule; technical correction.

SUMMARY: In this action, EPA is amending a section in part 52, title 40, of the Code of Federal Regulations (CFR) that identifies the Agency's approvals of revisions to the Arizona State Implementation Plan, and is amending a section of part 81, title 40, of the Code of Federal Regulations that identifies area designations within Arizona. The purpose of this action is to correct these sections to conform to a previous final action taken by EPA related to attainment of the Carbon Monoxide National Ambient Air Quality Standard in the Tucson Air Planning Area.

EFFECTIVE DATE: This action is effective on March 18, 2004.

ADDRESSES: Copies of documents relevant to this action are available for public inspection during normal business hours at the Air Planning Office of the Air Division, Environmental Protection Agency, Region IX, 75 Hawthorne Street, San Francisco, California 94105-3901.

FOR FURTHER INFORMATION CONTACT: Eleanor Kaplan, Air Planning Office (Air-2), U.S. Environmental Protection Agency, Region IX, (415) 947-4147 or e-mail to kaplan.eleanor@epa.gov.

SUPPLEMENTARY INFORMATION: On June 8, 2000, at 65 FR 36353, EPA published a final rulemaking action approving the request by Arizona for the redesignation of the Tucson Air Planning Area (TAPA) to attainment for the carbon monoxide (CO) National Ambient Air Quality Standard (NAAQS) and for approval of a maintenance plan. The effective date for that action was July 10, 2000. On August 21, 2000, at 65 FR 50651, EPA published a correction to the June 8, 2000 final rule adding amendments relating to various Arizona statutes to 40 CFR part 52, § 52.120, which identifies the Arizona State Implementation Plan (SIP), and correcting the description of the boundaries for TAPA in 40 CFR part 81, § 81.303, which identifies the area designations for air quality planning purposes within Arizona.

However, in correcting the description of the boundaries of TAPA in the August 21, 2000 correction notice, EPA inadvertently changed the effective date in the Arizona CO table in 40 CFR part 81, § 81.303, on which TAPA's designation became attainment for the CO NAAQS from the correct date, July 10, 2000, to an incorrect date, September 20, 2000. Publication of the 2003 Edition of the volume of 40 CFR containing parts 81 to 85 (i.e., with revisions as of July 1, 2003) added another error by moving the date (erroneously listed as September 20, 2000) for TAPA in the Arizona CO table to the column that describes the designated area. Also, in the August 21, 2000 correction notice, EPA inadvertently deleted the designation type (“Attainment”) from the appropriate column in 40 CFR part 81, § 81.303. Therefore, EPA is taking action today to amend the Arizona CO table in 40 CFR 81.303 to identify the correct effective date for the designation of attainment for TAPA with respect to the CO NAAQS, i.e., July 10, 2000, in the appropriate column, and to identify the designation type (“Attainment”) in the appropriate column, consistent with EPA's final rule published on June 8, 2000 (65 FR 36353). EPA is also taking this opportunity to revise the description of the boundaries for the designated area (“Tucson Area”) in recognition of the change in status of Saguaro National Monument to Saguaro National Park. Saguaro National Park was so designated in 1994.

In addition, in the June 8, 2000 final rule, EPA inadvertently failed to list the 1996 Carbon Monoxide Limited Maintenance Plan for the Tucson Air Planning Area (as updated August, 1997), submitted by the Arizona Department of Environmental Quality (ADEQ) to EPA on October 6, 1997, as an approved revision to the Arizona SIP in 40 CFR part 52, § 52.120. In the June 8, 2000 final rule, EPA codified its final approval of this plan in 40 CFR part 52, § 52.123, but did not list its approval of this plan in 40 CFR part 52, § 52.120, which is the section of subpart D (Arizona) (of part 52) that identifies the original Arizona SIP and all revisions to the Arizona SIP that have been approved by EPA. Therefore, EPA is taking action today to amend 40 CFR part 52, § 52.120, [specifically, paragraph (c)(91)] to clarify EPA's approval of the 1996 Carbon Monoxide Limited Maintenance Plan for the Tucson Air Planning Area (as updated August, 1997), submitted by ADEQ on October 6, 1997, as a revision to the Arizona SIP.

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because EPA is merely correcting the listing of approved plan revisions in 40 CFR part 52, § 52.120, and correcting the table listing the area designations in 40 CFR part 81, § 81.303, to reflect a previous EPA rulemaking that had been subject to notice and comment procedures. Thus, notice and public procedure are unnecessary. EPA finds that this constitutes good cause under 5 U.S.C. 553(b)(B).

Moreover, since today's action does not create any new regulatory requirements and affected parties have known of the underlying rule since June 8, 2000, EPA finds that good cause exists to provide for an immediate effective date pursuant to 5 U.S.C 553(d)(3).

Summary of Final Action

In this action, EPA is amending 40 CFR part 52, subpart D, to list EPA approval of the Tucson CO maintenance plan as a revision to the Arizona SIP and is amending 40 CFR part 81, subpart C, to correct errors in the Arizona CO table for the Tucson Air Planning Area. Specifically, this action amends 40 CFR part 52, § 52.120, relating to the Identification of Plan, and 40 CFR part 81, § 81.303, describing the boundary, date of attainment and attainment status of the Tucson Air Planning Area. This action aligns the applicable sections of 40 CFR parts 52 and 81 with our final rule published in the Federal Register on June 8, 2000 that redesignated the Tucson Air Planning Area to attainment for the CO NAAQS and that approved the maintenance plan for that area as a revision to the Arizona SIP.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). Because the agency has made a “good cause” finding that this action is not subject to notice-and-comment requirements under the Administrative Procedure Act or any other statute, it is not subject to the regulatory flexibility provisions of the Regulatory Flexibility Act (5 U.S.C. 601 et seq.), or to sections 202 and 205 of the Unfunded Mandates Reform Act of 1995 (UMRA)(Pub. L. 104-4). In addition, this action does not significantly or uniquely affect small governments or impose a significant intergovernmental mandate, as described in sections 203 and 204 of UMRA.

This rule also does not have tribal implications because it will not have a substantial direct effect on one or more Indian tribes, on the relationship between the Federal Government and Indian tribes, or on the distribution of power and responsibilities between the Federal Government and Indian tribes, as specified by Executive Order 13175 (65 FR 67249, November 9, 2000). This rule will not have substantial direct effects on the States, on the relationship between the national government and the States, or on the distribution of power and responsibilities among the various levels of government, as specified in Executive Order 13132 (64 FR 43255, August 10, 1999). This rule also is not subject to Executive Order 13045 “Protection of Children from Environmental Health Risks and Safety Risks” (62 FR 19885, April 23, 1997), because it is not economically significant.

This technical correction action does not involve technical standards; thus, the requirements of section 12(d) of the National Technology Transfer and Advancement Act of 1995 (15 U.S.C. 272 note) do not apply. This rule does not impose an information collection burden under the provisions of the Paperwork Reduction Act of 1995 (44 U.S.C. 3501 et seq.). EPA's compliance with these statutes and Executive Orders for the underlying rule is discussed in the June 8, 2000 Federal Register action.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of March 18, 2004. EPA will submit a report containing this rule and other required information to the U.S. Senate, the U.S. House of Representatives, and the Comptroller General of the United States prior to publication of the rule in the Federal Register. This action is not a “major rule” as defined by 5 U.S.C. 804(2).

Under section 307(b)(1) of the Clean Air Act, petitions for judicial review of this action must be filed in the United States Court of Appeals for the appropriate circuit by May 17, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Intergovernmental relations, Reporting and recordkeeping requirements.

40 CFR Part 81

Air pollution control, National parks.

Dated: February 19, 2004.
Laura Yoshii,
Acting Regional Administrator, Region IX.

Parts 52 and 81 of Chapter I, Title 40 of the Code of Federal Regulations are amended as follows:

PART 52—[AMENDED]

1. The authority citation for part 52 continues to read as follows:

Authority: 42 U.S.C. 7401 et seq.

Subpart D—Arizona

2. Section 52.120 is amended by revising paragraph (c)(91) to read as follows:

§ 52.120 Identification of plan.

* * * * *

(c) * * *

(91) The following amendments to the plan were submitted on October 6, 1997 by the Governor's designee.

(i) Incorporation by reference.

(A) 1996 Carbon Monoxide Limited Maintenance Plan for the Tucson Air Planning Area (as updated August, 1997).

(1) Base year (1994) emissions inventory and contingency plan, including commitments to follow maintenance plan contingency procedures by the Pima Association of Governments and by the member jurisdictions: the town of Oro Valley, Arizona (Resolution No. (R) 96-38, adopted June 5, 1996), the City of South Tucson (Resolution No. 96-16, adopted on June 10, 1996), Pima County (Resolution and Order No. 1996-120, adopted June 18, 1996), the City of Tucson (Resolution No. 17319, adopted June 24, 1996), and the town of Marana, Arizona (Resolution No. 96-55, adopted June 18, 1996).

(B) Arizona Revised Statutes. Senate Bill 1002, Sections 26, 27 and 28: ARS 41-2083 (amended), 41-2122 (amended), 41-2125 (amended), adopted on July 18, 1996.

* * * * *

PART 81—[AMENDED]

1. The authority citation for part 81 continues to read as follows:

Authority: 42 U.S.C. 7401 et seq.

Subpart C—Section 107 Attainment Status Designations

2. In § 81.303, the Arizona Carbon Monoxide table is amended by revising the entry for the Tucson Area to read as follows:

§ 81.303 Arizona.

* * * * *

Arizona.—Carbon Monoxide
Designated area | Designation: Date ¹ | Designation: Type | Classification: Date ¹ | Classification: Type
* * * * * * *
Tucson Area: | July 10, 2000 | Attainment
Pima County (part) Township and Ranges as follows: T11-12S, R12-14E; T13-15S; R11-16E; and T16S, R12-16E Gila and Salt River Baseline and Meridian excluding portions of the Saguaro National Park and the Coronado National Forest
* * * * * * *
¹ This date is November 15, 1990, unless otherwise noted.

* * * * *

[FR Doc. 04-4817 Filed 3-17-04; 8:45 am]

BILLING CODE 6560-50-P